DEPARTMENT OF THE INTERIOR

Bureau of Land Management

[WO-300-1990-00]

Surface Management Regulations for Locatable Mineral Operations; Final Environmental Impact Statement Availability

AGENCY: Bureau of Land Management, Department of the Interior.

ACTION: Notice of availability of final environmental impact statement (EIS) on Surface Management Regulations for Locatable Minerals Management.

SUMMARY: Pursuant to section 102(2)(C) of the National Environmental Policy Act and 40 CFR 1500-1508 Council on Environmental Quality Regulations, notice is given that the Bureau of Land Management (BLM) has prepared a Final EIS on the Surface Management Regulations for Locatable Mineral Operations (43 CFR 3809), and has made it available to the public.

DATES: The Bureau of Land Management will make this FEIS available to the public for at least 30 days following publication in the Federal Register by the Environmental Protection Agency of a Notice of Receipt of this Final EIS, and will take no final action during this time period.

FOR FURTHER INFORMATION CONTACT: Paul McNutt, BLM Nevada State Office, (775) 861-6604, or via email: pmcnutt@blm.gov; or Andrew Strasfogel, BLM Washington Office, (202) 452-7723, or via email: astrasfo@blm.gov.

SUPPLEMENTARY INFORMATION: Copies may be requested from Paul McNutt, BLM Nevada State Office, 1340 Financial Blvd., Reno, NV 89502, (775) 861-6604, or via email: pmcnutt@blm.gov.

Dated: October 16, 2000.
Nina Hatfield,
Deputy Director.

[FR Doc. 00-27014 Filed 10-19-00; 8:45 am]

BILLING CODE 4310-84-M